SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before October 3, 2008.

ADDRESSES: Send all comments regarding whether these information collections are necessary for the proper performance of the function of the agency, whether the burden estimates are accurate, and if there are ways to minimize the estimated burden and enhance the quality of the collections, to Cynthia Pitts, Administrative Officer, Office of Disaster, Small Business Administration, 409 3rd Street, SW., 6th floor, Wash., DC 20416.

FOR FURTHER INFORMATION CONTACT: Cynthia Pitts, Administrative Officer, Office of Disaster, 202-205-7570 cynthia.pitts@sba.gov Curtis B. Rich, Management Analyst, 202-205-7030 curtis.rich@ba.gov.

SUPPLEMENTARY INFORMATION: The Small Business Administration is authorized to make loans to victims of declared disasters for the purpose of restoring their damaged property to, as near as possible, pre-disaster conditions. SBA's Office of Disaster Assistance provides customer service to individuals and businesses on the phone and via email through its Disaster Assistance Customer Service Center and in-person through its Field Operations Centers.

Title: “Disaster Business Loan Application.”

Description of Respondents: Application for benefits (loan) used to determine eligibility and credit worthiness of Small Business or not-for-profit organizations who seek Federal Assistance in a declared disaster. Respondents are disaster victims seeking disaster assistance.

Form Numbers: 5 & 1368.

Annual Responses: 9,510.

Annual Burden: 22,208.

Title: “Disaster Business Loan Application.”

Description of Respondents: Application for benefits (loan) used to determine eligibility and credit worthiness of Small Business or not-for-profit organizations who seek Federal Assistance in a declared disaster. Respondents are disaster victims seeking disaster assistance.

Form Number: 5C.

Annual Responses: 49,862.

Annual Burden: 74,793.

Jacqueline White,
Chief, Administrative Information Branch.

[FR Doc. E8-17834 Filed 8-1-08; 8:45 am]

BILLING CODE 8025-01-P